DEPARTMENT OF THE INTERIOR

Bureau of Land Management

[CO-500-0777-XZ-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held July 17, 2007 from 9 a.m. to 5 p.m. and will continue on July 18, 2007 from 9 a.m. to 3 p.m.

ADDRESSES: Great Sand Dunes Visitor Center, Mosca, Colorado.

FOR FURTHER INFORMATION CONTACT: Christie Achenbach, (719) 852-5941.

SUPPLEMENTARY INFORMATION: The 15 member Council advises the Secretary of the Interior, through the Bureau of Land Management, on a variety of planning and management issues associated with public land management in the Royal Gorge Field Office and San Luis Valley, Colorado. Planned agenda topics on July 17 include: Manager updates on current land management issues; Royal Gorge Field Office updates on the Arkansas River Travel Management Plan and the South Park Land Tenure Adjustment Plan; and San Luis Valley updates on Antelope Trickle Stewardship project, the Anderson Ditch, a tour of the proposed extreme jeep area and updates on other public land issues. On July 18, the Council will tour the Baca Mountain tract and discuss access issues. All meetings are open to the public. The public is encouraged to make oral comments to the Council at 9:15 a.m. on July 17 or written statements may be submitted for the Council's consideration. Depending on the number of persons wishing to comment and time available, the time for individual oral comments may be limited. The public is also welcome to attend the field tours on July 17 and 18, however they may need to provide their own transportation. Summary minutes for the Council Meeting will be maintained in the San Luis Valley Public Lands Center and the Royal Gorge Field Office and will be available for public inspection and reproduction during regular business hours within thirty (30) days following the meeting. Meeting Minutes and agenda (10 days prior to each meeting) are also available at: http://www.blm.gov/rac/co/frrac/co_fr.htm.

Dated: June 15, 2007.
Diane Chung,
Center Manager, San Luis Valley Public Lands Center.

[FR Doc. E7-12315 Filed 6-25-07; 8:45 am]

BILLING CODE 4310-JB-P